DEPARTMENT OF HEALTH AND HUMAN SERVICES

Administration for Community Living

Agency Information Collection Activities; Submission for OMB Review; Comment Request; Funding Opportunity Announcement and Grant Application Template for ACL Discretionary Grant Programs

AGENCY: Administration for Community Living (ACL), HHS.

ACTION: Notice.

SUMMARY: The Administration for Community Living is announcing that the proposed collection of information listed above has been submitted to the Office of Management and Budget (OMB) for review and clearance as required under section 506(c)(2)(A) of the Paperwork Reduction Act of 1995. This 30-day notice collects comments on the information collection requirements related to a Revision of a Currently Approved Collection (ICR Rev).

DATES: Submit written comments on the collection of information by May 26, 2017.

ADDRESSES: Submit written comments on the collection of information by fax 202.395.5806 or by mail to the Office of Information and Regulatory Affairs, OMB, New Executive Office Bldg., 725 17th St. NW., Rm. 10235, Washington, DC 20503, Attn: OMB Desk Officer for ACL.

FOR FURTHER INFORMATION CONTACT: Mark Snyderman at (202) 795-7439 or mark.snyderman@acl.hhs.gov.

SUPPLEMENTARY INFORMATION: In compliance with 44 U.S.C. 3507, ACL has submitted the following proposed collection of information to OMB for review and clearance. ACL is requesting an extension of the currently approved data collection with modifications. The Funding Opportunity Announcement and Application Instructions Template are for use with all ACL competitions for discretionary grant programs. The template provides the requirements and instructions for the submission of an application for discretionary grants funding opportunities.

ACL is publishing this Federal Register Notice for the public to review and comment on the ACL Standard Funding Opportunity Announcement (FOA) (0985-0018) form. ACL seeks to make a small number of minor edits to the current Funding Opportunity Announcement (FOA) template form. The edits are intended to clarify and simplify the form used to solicit applicants who wish to perform activities related to the various programs offered by ACL, either through a grant or cooperative agreement. The edits consist of correcting grammatical errors, removing duplicative language, and allowing for the option to add program specific instructions to the project summary and abstract.

Comments in Response to the 60-Day Federal Register Notice

A 60-day Federal Register Notice was published in the Federal Register on February 1, 2017 (Vol. 82, Number 20; pp. 8940-8941). In response to the notice, the Department received two comments, one with 57 signatories. The commenters were concerned that the template did not reference an eight percent cap on the indirect cost rate associated with training programs. Instead, the notice included language from the Uniform Administrative Requirements, Cost Principles, and Audit Requirements for Federal Awards (commonly called “Uniform Guidance”), which were implemented in fiscal year 2015 (https://www.grants.gov/web/grants/learn-grants/grant-policies/omb-uniform-guidance-2014.html) . This language requires agencies to accept the indirect cost rate negotiated with their agency, and the requirement applies to all grant making agencies in the Federal Government. However, the HHS Grants Policy Administration Manual (GPAM) and Grants Policy Statement (GPS) provide that the indirect cost rate for training grants is capped at eight percent. ACL has reviewed all pertinent information and has determined that no change is necessary to the FOA template. This notice is for a generic template that is used by all ACL grant applicants. Requirements associated with particular programs are included in the specific FOAs for those programs. The UCEDD programs were designated as training programs in the past as part of the specific FOA for these programs. The proposed template may be found on the ACL Web site at https://acl.gov/Funding_Opportunities/Announcements/docs/ACL_PA_Template_FINAL.docx.

| Number of competitions | Applicants per FOA | Number of respondents | Frequency of response per year | Average hour burden per respondent | Total estimated data burden
NIDIL RR | 16 | 16 | 256 | 1 | 220 | 56,320
Other ACL | 34 | 14.5 | 493 | 1 | 48 | 23,664
|  |  |  |  |  | 79,984

Estimated Number of Responses: 749 annually. Total Estimated Burden Hours: 79,984.

Dated: April 20, 2017.
Daniel P. Berger,
Acting Administrator and Assistant Secretary for Aging.

[FR Doc. 2017-08436 Filed 4-25-17; 8:45 am]

BILLING CODE 4154-01-P